LIBRARY OF CONGRESS

Copyright Office

37 CFR Part 201

[Docket No. RM 2008-9]

Fees

Correction

In proposed rule document E8-24269 beginning on page 60658 in the issue of Tuesday, October 14, 2008, make the following correction:

On page 60661, the table is corrected in part as follows:

Registration, recordation, and related services | Current fees | Proposed fees
* * * * * * *
Special Services
(1) Service charge for deposit account overdraft | $150 | $165
(2) Service charge for dishonored deposit account replenishment check | 75 | 85
(3) Service charge for an uncollectible or non-negotiable check ¹ | N/A | 25
(4) Appeals:
(i) First appeal | 250 | 250
Additional claim in related group | 25 | 25
(ii) Second appeal | 500 | 500
Additional claim in related group | 25 | 25
(5) Secure test processing charge (per hour) | 150 | 165
(6) Copying of Copyright Office records by staff:
Photocopy (b & w, 8½ x 11) (per page, minimum $12) | 0.50 | 0.50
Photocopy (b & w, 11 x 17) (per page, minimum $12) | N/A | 1
Photocopy (color, 8½ x 11) (per page, minimum $12) | 1.50 | 2
Photocopy (color, 11 x 17) (per page, minimum $12) | N/A | 4
Photograph (Polaroid) | 15 | 15
Photograph (digital) | 45 | 45
Slide | 3 | 3
Audiocassette (first 30 minutes) | 75 | 75
Additional 15 minute increments | 20 | 20
Videocassette (first 30 minutes) | 75 | 75
Additional 15 minute increments | 25 | 25
CD or DVD | 50 | 100
Zip or floppy disk | 100 | 100
(7) Special handling fee for a claim | 685 | 760
Each additional claim using the same deposit | 50 | 50
(8) Special handling fee for recordation of a document | 435 | 480
(9) Handling fee of extra deposit copy for certification | 45 | 45
(10) Full-term retention of a published deposit | 425 | 470
(11) Expedited search and report service (surcharge, per hour) | 400 | 445
(12) Expedited Records Research & Certification services (surcharge, per hour) | 240 | 265
(13) Notice to Libraries and Archives | 50 | 50
Each additional title | 20 | 20
(14) Fed Ex Service | 35 | 40
(15) Delivery of documents via facsimile (per page, 7 page maximum) | 1 | 1
Licensing Division Services
(1) Recordation of a Notice of Intention to Make and Distribute Phonorecords (17 U.S.C. 115) (single title) | 12 | 105
Additional titles (per group of 10 titles) | N/A | 20
(2) Filing Fee for Recordation of Licensing Agreements under 17 U.S.C. 118 | 125 | 140
(3) Recordation of Certain Contracts by Cable Television Systems Located Outside the Forty-Eight Contiguous States | 50 | 50
(4) Initial Notice of Digital Transmission of Sound Recording (17 U.S.C. 114) | 20 | 25
Amendment of 17 U.S.C. 114 Notice | 20 | 25
(5) Statement of Account Amendment (Cable Television Systems and Satellite Carriers, 17 U.S.C. 111 and 119) | 95 | 100
(6) Statement of Account Amendment (Digital Audio Recording Devices or Media, 17 U.S.C. 1003) | 95 | 100
(7) Photocopy made by staff (b & w) (per page, minimum $12) | 0.50 | 0.50
(8) Search, per hour (minimum 1 hour) | 150 | 165
(9) Certification of Search Report | 150 | 165
¹ New item; fee not currently listed in 37 CFR 201.3(d).

[FR Doc. Z8-24269 Filed 10-22-08; 8:45 am]

BILLING CODE 1505-01-D